DEPARTMENT OF HEALTH AND HUMAN SERVICES

Centers for Disease Control and Prevention

Board of Scientific Counselors, National Center for Health Marketing (BSC, NCHM)

Correction: This notice was published in the Federal Register on November 12, 2008, Volume 73, Number 219, pages 66900-66901. The meeting location was originally announced as CDC, 1600 Clifton Road, NE., Tom Harkin Global Communication Center, Building 21, Room 1204 A&B, Atlanta, Georgia 30333. The correct address for the meeting location is CDC, 1600 Clifton Road, NE., Tom Harkin Global Communication Center, Building 19, Auditorium B1/B2, Atlanta, Georgia 30333.

Times and Dates:

9 a.m.-5 p.m., December 8, 2008.

8:30 a.m.-12:30 p.m., December 9, 2008.

Contact Person for More Information: Dionne R. Mason, Committee Management Specialist, NCHM, 1600 Clifton Road, NE., Mail Stop E-21, Atlanta, Georgia 30333; Telephone (404) 498-2314, Fax (404) 498-2221.

The Director, Management Analysis and Services Office, has been delegated the authority to sign Federal Register notices pertaining to announcements of meetings and other committee management activities, for both CDC and the Agency for Toxic Substances and Disease Registry.

Dated: November 26, 2008.
Elaine L. Baker,
Director, Management Analysis and Services Office, Centers for Disease Control and Prevention.

[FR Doc. E8-28813 Filed 12-4-08; 8:45 am]

BILLING CODE 4163-18-P